DEPARTMENT OF DEFENSE

Office of the Secretary

[Docket ID: DOD-2012-OS-0097]

Defense Transportation Regulation, Part IV

AGENCY: United States Transportation Command (USTRANSCOM), DoD.

ACTION: Notice.

SUMMARY: The Department of Defense has published draft Direct Procurement Method (DPM) business rules for the Defense Personal Property Program (DP3) in the Defense Transportation Regulation (DTR) Part IV (DTR 4500.9R). These business rules will encompass Transportation Service Providers (TSP) participation and procedures for Personal Property Shipping Offices (PPSO) as we transition to Phase III of the Defense Personal Property Program (DP3). The DPM business rules will replace the currently approved Domestic Small Shipment (dS2) business rules and will appear under DTR Part IV, Appendix V, to include operational business rules maintained on the Surface Deployment and Distribution Command (SCCD) Web site. The below listed draft business rules are available for review on the USTRANSCOM Web site at http://www.transcom.mil/dtr/coord/coordpartiv.cfm.

DATES: Comments must be received on or before October 4, 2012. Do not submit comments directly to the point of contact or mail your comments to any address other that what is shown below. Doing so will delay the posting of the submission. You may submit comments, identified by docket number and title, by any of the following methods:

• Federal eRulemaking Portal: http://www.regulations.gov. Follow the instructions for submitting comments.

• Mail: Federal Docket Management System Office, 4800 Mark Center Drive, Suite 02G09, Alexandria VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Jim Teague, United States Transportation Command, TCJ5/4-PI, 508 Scott Drive, Scott Air Force Base, IL 62225-5357; (618) 220-4803.

SUPPLEMENTARY INFORMATION: In furtherance of DoD's goal to develop and implement an efficient personal property program to facilitate quality movements of personal property for our military members and civilian employees, DPM business rules were developed in concert with the Military Services and SDDC. The following business rules are available for review and comment:

DPM Tender of Service (TOS)

Attachment V.E.1—Customer Satisfaction Survey

Attachment V.F.1—Best Value Score

Attachment V.F.2—Shipment Management

Attachment V.F.3—TSP Qualifications

Attachment V.F.4—Rate Filing

Attachment V.F.5—DPM CONUS Freight TSP

Attachment V.Q.2—Quality Assurance

Any subsequent modification(s) to the business rules will be published in the Federal Register and incorporated into the Defense Transportation Regulation (DTR) Part IV (DTR 4500.9R). These program requirements do not impose a legal requirement, obligation, sanction or penalty on the public sector, and will not have an economic impact of $100 million or more.

Additional Information: A complete version of the DTR is available via the Internet on the USTRANSCOM homepage at http://www.transcom.mil/dtr/part-iv/.

Dated: August 29, 2012.
Aaron Siegel,
Alternate OSD Federal Register Liaison Officer, Department of Defense.

[FR Doc. 2012-21696 Filed 8-31-12; 8:45 am]

BILLING CODE 5001-06-P